DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground: Modified | Communities affected
Fairfield County, Ohio and Incorporated Areas
Docket No.: FEMA-P-7923
Blacklick Creek | Just upstream of Tussing Road | *826 | Fairfield County (Unincorporated Areas).
| Approximately 190 feet downstream of U.S. Interstate 70 Eastbound | *828
Georges Creek | Approximately 350 feet downstream of Long Road | *791 | City of Pickerington.
| Approximately 150 feet upstream of Pickerington Ridge Drive | *816
Georges Creek Overflow | Approximately 2,690 feet downstream of the divergence from Georges Creek | *800 | City of Pickerington.
| At the divergence from Georges Creek | *807
ADDRESSES
Fairfield County, Ohio (Unincorporated Areas)
Maps are available for inspection at Fairfield County Regional Planning Commission, 210 East Main Street, Lancaster, Ohio 43140.
City of Pickerington, Fairfield and Franklin Counties, Ohio
Maps are available for inspection at City of Pickerington City Hall, 100 Lockville Road, Pickerington, Ohio 43147.
Franklin County, Ohio and Incorporated Areas
Docket No.: FEMA-P-7923
Blacklick Creek | Approximately 3,930 feet upstream of Refugee Road | *803 | City of Columbus.
| Approximately 300 feet downstream of U.S. Interstate 70 Eastbound | *828
Coble-Bowman Ditch | Approximately 500 feet downstream of Bixby Road/County Highway 229 | *742 | Franklin County (Unincorporated Areas).
| Approximately 4,500 feet upstream of Winchester Pike/CountyHighway 376 | *760
Georges Creek | Approximately 90 feet upstream of Conrail | *749 | Franklin County (Unincorporated Areas).
| Approximately 2,200 feet upstream of Long Road/County Highway 220 (limit of flooding affecting Franklin County) | *799 | Village of Canal Winchester, City of Columbus.
Georges Creek Overland Flow | At the confluence with Georges Creek | *749 | Franklin County (Unincorporated Areas).
| Approximately 1,440 feet upstream of confluence with Georges Creek | *749
Georges Creek Split Flow | At the convergence with Georges Creek | *777 | Franklin County (Unincorporated Areas).
| At the divergence from Georges Creek | *784 | City of Columbus.
Georges Creek Overflow | Approximately 150 feet upstream of the convergence with Blacklick Creek | *796 | City of Columbus.
| Approximately 3,560 feet upstream of the convergence with Blacklick Creek | *800
ADDRESSES
Village of Canal Winchester, Franklin County, Ohio
Maps are available for inspection at Canal Winchester Municipal Building, 36 South High Street, Canal Winchester, Ohio 43110.
City of Columbus, Franklin County, Ohio
Maps are available for inspection at Building Services Division, 757 Carolyn Avenue, Columbus, Ohio 43215.
Franklin County, Ohio (Unincorporated Areas)
Maps are available for inspection at Franklin County Economic Development and Planning Department, 280 East Broad Street, Room 202, Columbus, Ohio 43215.
# Depth in feet above ground.
*National Geodetic Vertical Datum.
+North American Vertical Datum.

(Catalog of Federal Domestic Assistance No. 83.100, “Flood Insurance.”)

Dated: April 16, 2007.
David I. Maurstad,
Federal Insurance Administrator of the National Flood Insurance Program, Federal Emergency Management Agency, Department of Homeland Security.

[FR Doc. E7-7970 Filed 4-25-07; 8:45 am]

BILLING CODE 9110-12-P